GENERAL SERVICES ADMINISTRATION

[Notice-C0A-2022-01; Docket No. 2022-0002; Sequence No. 19]

Office of Human Resources Management; SES Performance Review Board

AGENCY: Office of Human Resources Management (OHRM), General Services Administration (GSA).

ACTION: Notice.

SUMMARY: Notice is hereby given of the appointment of new members to the GSA Senior Executive Service Performance Review Board. The Performance Review Board assures consistency, stability, and objectivity in the performance appraisal process.

DATES: Applicable: September 22, 2022.

FOR FURTHER INFORMATION CONTACT: Ms. Shonna James, Human Resources Specialist, Executive Resources Division, Office of Human Resources Management, GSA, 1800 F Street NW, Washington, DC 20405, or via telephone at 703-887-2571.

SUPPLEMENTARY INFORMATION: Section 4314(c)(1) through (5) of title 5 U.S.C. requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Katy Kale, Deputy Administrator—PRB Chair

• Christopher Bennethum, Assistant Commissioner for Assisted Acquisition Services, Federal Acquisition Service

• Lesley Briante, Associate CIO for Enterprise Planning & Governance, Office of GSA IT

• Krystal Brumfield, Associate Administrator for Government-wide Policy, Office of Government-wide Policy

• Traci DiMartini, Chief Human Capital Officer, Office of Human Resources Management

• Tiffany Hixson, Regional Commissioner, Federal Acquisition Service, Northwest/Arctic Region

• Flavio Peres, Assistant Commissioner for Real Property Utilization and Disposal, Public Buildings Service

• Joanna Rosato, Regional Commissioner, Public Buildings Service, Mid-Atlantic Region

• Kevin Rothmier, Regional Commissioner, Public Buildings Service, The Heartland Region

• Camille Sabbakhan, Deputy General Counsel, Office of the General Counsel

Robin Carnahan,
Administrator, General Services Administration.

[FR Doc. 2022-20479 Filed 9-21-22; 8:45 am]

BILLING CODE 6820-FM-P